ENVIRONMENTAL PROTECTION AGENCY

[OPP-2003-0192; FRL-7314-9]

FIFRA Scientific Advisory Panel; Notice of Cancellation of Public Meeting

AGENCY: Environmental Protection Agency (EPA).

ACTION: Notice.

SUMMARY: The July 16, 2003, Federal Insecticide, Fungicide, and Rodenticide Act Scientific Advisory Panel (FIFRA SAP) meeting to consider and review issues concerned with ensuring data quality for in vitro tests used as alternatives to animal studies for regulatory purposes has been cancelled. A new meeting will be rescheduled within the next several months and will be announced in the Federal Register. For further information, please notify the Designated Federal Official (DFO) listed under FOR FURTHER INFORMATION CONTACT or see the Federal Register of May 30, 2003 (68 FR 32490) (FRL-7311-3).

FOR FURTHER INFORMATION CONTACT: Myrta Christian, Designated Federal Official, Office of Science Coordination and Policy (7201M), Environmental Protection Agency, 1200 Pennsylvania Ave., NW., Washington, DC 20460; telephone number: (202) 564-8450; fax number: (202) 564-8382; e-mail address: christian.myrta@epa.gov.

List of Subjects

Environmental protection, Pesticides and pests.

Dated: June 19, 2003.
Joseph J. Merenda,
Director, Office of Science Coordination and Policy.

[FR Doc. 03-16036 Filed 6-24-03; 8:45 am]

BILLING CODE 6560-50-S